INTERNATIONAL TRADE COMMISSION

[USITC SE-16-004]

Government in the Sunshine Act Meeting Notice

AGENCY HOLDING THE MEETING: United States International Trade Commission.

TIME AND DATE: February 19, 2016 at 9:30 a.m.

PLACE: Room 101, 500 E Street SW., Washington, DC 20436,Telephone: (202) 205-2000.

STATUS: Open to the public.

MATTERS TO BE CONSIDERED:

1. Agendas for future meetings: None.

2. Minutes.

3. Ratification List.

4. Vote in Inv. Nos. 701-TA-551-553 and 731-TA-1307-1308 (Preliminary)(Certain New Pneumatic Off-the-Road Tires from China, India, and Sri Lanka). The Commission is currently scheduled to complete and file its determinations on February 22, 2016; views of the Commission are currently scheduled to be completed and filed on February 29, 2016.

5. Vote in Inv. Nos. 701-TA-469 and 731-TA-1168 (Review)(Seamless Carbon and Alloy Steel Standard, Line, and Pressure Pipe from China). The Commission is currently scheduled to completed and file its determinations and views of the Commission on February 29, 2016.

6. Outstanding action jackets: None.

In accordance with Commission policy, subject matter listed above, not disposed of at the scheduled meeting, may be carried over to the agenda of the following meeting.

By order of the Commission.
Issued: February 10, 2016.
William R. Bishop,
Supervisory Hearings and Information Officer.

[FR Doc. 2016-03096 Filed 2-10-16; 4:15 pm]

BILLING CODE 7020-02-P